INTERNATIONAL TRADE COMMISSION

[Investigation Nos. 731-TA-671-673 (Second Review)]

Silicomanganese From Brazil, China, and Ukraine

Determinations

On the basis of the record ¹ developed in the subject five-year reviews, the United States International Trade Commission (Commission) determines, pursuant to section 751(c) of the Tariff Act of 1930 (19 U.S.C. 1675(c)) (the Act), that revocation of the antidumping duty orders on silicomanganese from Brazil, China, and Ukraine would be likely to lead to continuation or recurrence of material injury to an industry in the United States within a reasonably foreseeable time.

¹ The record is defined in § . 207.2(f) of the Commission's Rules of Practice and Procedure (19 CFR 207.2(f)).

Background

The Commission instituted these reviews on January 3, 2006 (71 FR 135) and determined on April 10, 2006 that it would conduct expedited reviews (71 FR 27515, May 11, 2006).

The Commission transmitted its determinations in these reviews to the Secretary of Commerce on August 28, 2006. The views of the Commission are contained in USITC Publication 3879 (August 2006), entitled Silicomanganese from Brazil, China, and Ukraine: Investigation Nos. 731-TA-671-673 (Second Review).

Issued: August 28, 2006.
By order of the Commission.
Marilyn R. Abbott,
Secretary to the Commission.

[FR Doc. E6-14569 Filed 8-31-06; 8:45 am]

BILLING CODE 7020-02-P